DEPARTMENT OF COMMERCE

National Institute of Standards and Technology

Agency Information Collection Activities; Submission to the Office of Management and Budget (OMB) for Review and Approval; Comment Request; NIST Diversity, Equity, Inclusion and Accessibility Information Collections

AGENCY: National Institute of Standards and Technology (NIST), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before December 20, 2022.

ADDRESSES: Interested persons are invited to submit written comments by mail to Elizabeth Reinhart, Management Analyst, National Institute of Standards and Technology, PRAcomments@doc.gov. Please reference OMB Control Number 0693-xxxx in the subject line of your comments. Do not submit Confidential Business Information or otherwise sensitive or protected information.

FOR FURTHER INFORMATION CONTACT: Requests for additional information or specific questions related to collection activities should be directed to Jeanita Pritchett, Acting Director, Diversity, Equity, and Inclusivity Office (DEIO), NIST, 100 Bureau Drive, Gaithersburg, MD 20899, or email NISTDEIA@nist.gov.

SUPPLEMENTARY INFORMATION:

I. Abstract

The NIST mission and vision is rooted in driving innovation and industry through measurement science and standards to improve quality of life. NIST recognizes that to improve quality of life, it must cultivate a culture that is diverse, equitable, inclusive, and accessible. One of NIST's core values is inclusivity, which captures a commitment to work collaboratively to harness the diversity of people and ideas, both inside and outside of NIST, to attain the best solutions to multidisciplinary challenges. Under Executive Orders 14035 and 13985, the Federal Government is tasked with advancing equity within the Federal Government workforce (E.O. 14035) and advancing racial equity and support for underserved communities through the Federal Government (E.O. 13985).

In support of this core value, and in recognition that the NIST workforce is its most critical asset, the FY20-FY25 NIST Strategic Plan embraced a strategic goal to build a “One NIST” culture where everyone feels engaged and empowered. In addition, the recently released NIST Diversity, Equity, Inclusion, and Accessibility (DEIA) Strategic Plan, FY22-FY24, outlines the tactical steps needed for NIST to harness the diverse lived experiences of its workforce and customers in bringing a One NIST culture to reality.

Data collection is a key element of the NIST DEIA Strategic Plan, FY22-FY24, as NIST is taking a quantitative approach to measuring and tracking progress on plan implementation. This approach is supported by the June 25, 2021, Executive Order 14035 on “Diversity, Equity, Inclusion, and Accessibility in the Federal Workforce,” which calls for a whole-of-government approach to cultivating DEIA across the Federal Government. Additionally, Executive Order 13985 on “Advancing Racial Equity and Support for Underserved Communities Through the Federal Government,” released on January 25, 2021, tasked agencies with advancing equitable service delivery through expanded outreach and data collection. Moreover, the FY22 Government-Wide Strategic Plan to Advance DEIA in the Federal Workforce, released November 23, 2021, outlines a set of priorities for advancing and embedding DEIA throughout the Federal Government that includes data collection as critical to integrating DEIA in all ways of working.

The purpose of this generic clearance is to allow for easily deployable, repeated DEIA climate surveys and focus groups to capture periodic snapshots of NIST's progress toward building a One NIST culture through the various lived experiences of the NIST workforce and its stakeholders. Importantly, NIST is unique in that about half of the NIST workforce is non-Federal, including guest researchers, contractors, and other external collaborators. In fact, some organizational units within NIST consider non-Federal collaborators to be their mission. It is therefore imperative to capture the full range of experiences within NIST.

While initial collections will be conducted across the organization by the NIST Diversity, Equity, and Inclusivity Office (DEIO), organizational units and managers across NIST will be able to quickly deploy their own DEIA data collections under this generic. DEIO provides NIST-wide consultation on the integration of DEIA across all aspects of NIST mission delivery. The office serves as the focal point for all NIST-wide DEIA-related efforts, including the implementation of the NIST DEIA Strategic Plan, FY22-FY24. The office conducts NIST-wide assessments and audits to evaluate the advancement of DEIA-related goals. The ability to collect climate data through the lens of DIEA in this generic will be critical for establishing baselines on the current climate and tracking progress on advancing DEIA in support of building a welcoming, inclusive culture at NIST.

II. Method of Collection

NIST will collect this information electronically and through interviews. Electronic data collection methods will be conducted on NIST-approved software with appropriate protections for the data being collected. In addition, NIST will collect data by mail, fax, telephone, technical discussions, and in-person interviews, where feasible and appropriate. NIST may also utilize observational techniques to collect this information. Data storage will comply with NIST policies for storing sensitive and non-sensitive data, as applicable.

III. Data

OMB Control Number: New collection.

Form Number(s): None.

Type of Review: Regular submission; new collection.

Affected Public: Individuals or households; private sector; Federal Government.

Estimated Number of Respondents: 30,000.

Estimated Time per Response: Varies, dependent upon the data collection method.

Estimated Total Annual Burden Hours: 15,000.

Estimated Total Annual Cost to Public: $0.

Respondent's Obligation: Voluntary.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-22952 Filed 10-20-22; 8:45 am]

BILLING CODE 3510-13-P